NATIONAL AERONAUTICS AND SPACE ADMINISTRATION

[Notice (01-109)]

NASA Advisory Council (NAC), Earth Systems Science and Applications Advisory Committee (ESSAAC); Meeting

AGENCY: National Aeronautics and Space Administration.

ACTION: Notice of meeting.

SUMMARY: In accordance with the Federal Advisory Committee Act, Public Law 92-463, as amended, the National Aeronautics and Space Administration announces a meeting of the NASA Advisory Council, Earth Systems Science and Applications Advisory Committee.

DATES: Tuesday, October 16, 2001, 8:30 a.m. to 5:30 p.m.; and Wednesday, October 17, 2001, 8:30 a.m. to 5:30 p.m.

ADDRESSES: NASA Headquarters, 300 E Street SW, Room 9H40, Washington, DC, 20546.

FOR FURTHER INFORMATION CONTACT: Dr. Robert Schiffer, Code YS, National Aeronautics and Space Administration, Washington, DC 20546, 202/358-1876.

SUPPLEMENTARY INFORMATION: The meeting will be open to the public up to the seating capacity of the room. The agenda for the meeting is as follows:

—Introduction/Comments

—State-of-the-Enterprise

—Sub-Committee Reports

Data & Information Sub-Committee report

Technology Sub-Committee report

—Budget Perspectives

Earth Science Enterprise (ESE) Budget Status

OMB Perspective

—Earth System Science Pathfinder (ESSP) Program Status Report

—Science Planning Update—Carbon Cycle Research

—Science Planning Update—Water & Energy Cycle Research

—Applications Strategic Planning Update

—Summary of first day

—Earth Science Information Partners (ESIP) Planning Status

—Overview of ESE Data Systems and Services

—New Data and Information Systems and Services (NewDISS) Strategic Planning Status

—ESE Response to President's Climate Change Research Initiative

—ESE Instrument Incubator Program

—General Discussion/Closing Remarks and Adjournment

—Committee Writing Session

It is imperative that the meeting be held on these dates to accommodate the scheduling priorities of the key participants. Visitors will be requested to sign a visitors' register.

Beth M. McCormick,
Advisory Committee Management Officer, National Aeronautics and Space Administration.

[FR Doc. 01-22838 Filed 9-11-01; 8:45 am]

BILLING CODE 7510-01-P